DEPARTMENT OF THE INTERIOR

Fish and Wildlife Service

Information Collection Renewal Sent to the Office of Management and Budget (OMB) for Approval Under the Paperwork Reduction Act; 1018-0113; Information Collection in Support of Grants Programs Authorized by the Neotropical Migratory Bird Conservation Act (Pub. L. 106-247, 14 Stat. 593)

AGENCY: Fish and Wildlife Service, Interior.

ACTION: Notice; request for comments.

SUMMARY: We (Fish and Wildlife Service, Service) have sent a request to OMB to renew approval for our information collection associated with the Neotropical Migratory Bird Conservation Act (NMBCA) grants program. The current OMB control number for this information collection is 1018-0113, which expires November 30, 2005. We have requested that OMB renew approval of this information collection for a 3-year term.

DATES: You must submit comments on or before December 23, 2005.

ADDRESSES: Send your comments and suggestions on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection requirements or explanatory information, contact Hope Grey, Information Collection Clearance Officer, at the above addresses or by telephone at (703) 358-2482.

SUPPLEMENTARY INFORMATION: OMB regulations at 5 CFR 1320, which implement the provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

On July 29, 2005, we published in the Federal Register (70 FR 43900) a 60-day notice of our intent to request renewal of this information collection authority from OMB. In that notice, we solicited public comments for 60 days ending September 27, 2005. We did not receive any comments regarding this notice.

The NMBCA establishes a matching grants program to fund projects that promote the conservation of neotropical migratory birds in the United States, Latin America, and the Caribbean. The purposes of NMBCA are to: (1) Perpetuate healthy populations of neotropical migratory birds; (2) assist in the conservation of these birds by supporting conservation initiatives in the United States, Latin America, and the Caribbean; and (3) provide financial resources and foster international cooperation for those initiatives. Principal conservation actions supported by NMBCA are protection and management of neotropical migratory bird populations; maintenance, management, protection, and restoration of neotropical migratory bird habitat; research and monitoring; law enforcement; and community outreach and education.

Competing for grant funds involves applications from partnerships that describe in substantial detail project locations, project resources, future benefits, and other characteristics, to meet the standards established by the Fish and Wildlife Service and the requirements of NMBCA. The information collection for this program is part of a system of records covered by the Privacy Act (5 U.S.C. 552(a)).

Materials that describe the program and assist applicants in formulating project proposals are available on our Web site at http://www.fws.gov/birdhabitat/. Persons who do not have access to the website may obtain instructional materials by mail by contacting the Service's Division of Bird Habitat Conservation. There has been little change in the scope and general nature of these instructions since OMB first approved this information collection in 2002. Instructions assist applicants in formulating detailed project proposals for consideration by a panel of reviewers from the Fish and Wildlife Service. These instructional materials are the basis for this information collection request.

We publish notices of funding availability annually on the Grants.gov Web site (http://www.grants.gov) as well as in the Catalog of Federal Domestic Assistance (http://cfda.gov). We use information collected under this program to respond to such needs as audits, program planning and management, program evaluation, Government Performance and Results Act reporting, Standard Form 424 (Application for Federal Assistance), assistance awards, budget reports and justifications, public and private requests for information, data provided to other programs for databases on similar programs, congressional inquiries, and reports required by NMBCA.

If the information were not collected, we would have to eliminate the program because it would not be possible to determine eligibility and the relative worth of the proposed projects. Reducing the frequency of collection would only reduce the frequency of grant opportunities as the information collected is unique to each project proposal. Discontinuation of the program is not a viable option.

Title: Information Collection in Support of Grants Programs Authorized by the Neotropical Migratory Bird Conservation Act (Pub. L. 106-247; 14 Stat. 593).

OMB Control Number: 1018-0113.

Form Number(s): None.

Frequency of Collection: Occasional. This grants program has one project proposal submission per year. Annual reports are due 90 days after the anniversary date of the grant agreement. Final reports are due 90 days after the end of the project period. The project period is up to 2 years.

Description of Respondents: (1) An individual, corporation, partnership, trust, association, or other private entity; (2) an officer, employee, agent, department, or instrumentality of the Federal Government, of any State, municipality, or political subdivision of a State, or of any foreign government: (3) a State, municipality, or political subdivision of a State; (4) any other entity subject to the jurisdiction of the United States or of any foreign country; and (5) an international organization.

Number of Respondents: 160 submit grant applications; 60 submit required reports.

Annual Burden: 70 hours per application; 30 hours per report.

Total Annual Burden Hours: 13,000.

We again invite your comments on: (1) Whether or not the collection of information is necessary for the proper performance of the NMBCA grants programs, including whether or not in the opinion of the respondent the information has practical utility; (2) the accuracy of our estimate of the annual hour burden of information requested; (3) ways to enhance the quality, utility and clarity of the information to be collected; and (4) ways to minimize the burden of the collection of information on respondents.

Dated: November 17, 2005.
Hope Grey,
Information Collection Clearance Officer, Fish and Wildlife Service.

[FR Doc. 05-23172 Filed 11-22-05; 8:45 am]

BILLING CODE 4310-55-P